ENVIRONMENTAL PROTECTION AGENCY

[FRL-9914-83-Region 5]

EPA Great Lakes Advisory Board; Notice of Charter Renewal

AGENCY: Environmental Protection Agency.

ACTION: Notice of Charter Renewal.

Notice is hereby given that the Environmental Protection Agency (EPA) has determined that, in accordance with the provisions of the Federal Advisory Committee Act (FACA), 5 U.S.C. App. 2, the EPA Great Lakes Advisory Board is a necessary committee which is in the public interest. Accordingly, the Advisory Board will be renewed for an additional two-year period. The purpose of the Advisory Board is to provide advice to the Administrator in her capacity as Chair of the Inter-Agency Task Force established per Executive Order 13340 (May 18, 2004), on matters related to Great Lakes restoration and protection. The Advisory Board's major objectives are to provide advice and recommendations on: Great Lakes protection and restoration policy; long term goals and objectives for Great Lakes protection and restoration; annual priorities to protect and restore the Great Lakes that may be used to help inform budget decisions; and issues addressed by the Great Lakes Interagency Task Force. Inquiries may be directed to Rita Cestaric, U.S. Environmental Protection Agency, 77 W. Jackson, Chicago, IL 60604, Email address: cestaric.rita@epa.gov, Telephone number: (312) 886-6815.

Dated: July 23, 2014.
Cameron Davis,
Senior Advisor to the Administrator.

[FR Doc. 2014-18834 Filed 8-7-14; 8:45 am]

BILLING CODE 6560-50-P